NATIONAL SCIENCE FOUNDATION

Advisory Committee for International Science and Engineering; Notice of Meeting

In accordance with Federal Advisory Committee Act (Pub. L. 92-463, as amended), the National Science Foundation announces the following meeting:

Name: Advisory Committee for International Science and Engineering (25104).

Date/Time: June 16, 2005: 8:30 a.m. to 5:30 p.m. June 17, 2005: 8:30 a.m. to 12 noon.

Place: National Science Foundation, 4201 Wilson Boulevard, Room 730, Arlington VA.

Type of Meeting: Open.

Contact Person: John Duvall, National Science Foundation, 4201 Wilson Boulevard, Arlington VA, 22230; (703) 292-8710. If you are attending the meeting and need access to the NSF, please contact the individual listed above so that your name may be added to the building access list.

Purpose of Meeting: To provide advice, recommendations, and oversight on research, education and related activities involving the U.S. science and engineering community working within a global context and NSF's role in international science and engineering.

Agenda:

June 16, 2005.

AM: Introductions and Updates—Office of International Science and Engineering; Presentation and Discussion of 2005 Committee of Visitors Report; Discussion of Developing Country Activities.

PM: Presentation by Assistant Director of Engineering, John Brighton; Presentation by Kathie L. Olsen, Office of Science and Technology Policy.

June 17, 2005.

AM: Committee discussion; Discussion with NSF Director Arden L. Bement, Jr.

Dated: May 26, 2005.
Susanne Bolton,
Committee Management Officer.

[FR Doc. 05-10889 Filed 5-31-05; 8:45 am]

BILLING CODE 7555-01-M